DEPARTMENT OF COMMERCE

National Oceanic and Atmospheric Administration

RIN 0648-XD228

Advisory Committee to the U.S. Section to the International Commission for the Conservation of Atlantic Tunas (ICCAT); Spring Species Working Group Meeting

AGENCY: National Marine Fisheries Service (NMFS), National Oceanic and Atmospheric Administration (NOAA), Commerce.

ACTION: Notice of Advisory Committee meeting.

SUMMARY: The spring meeting of the Advisory Committee (Committee) to the U.S. Section to the International Commission for the Conservation of Atlantic Tunas (ICCAT) on March 4-5, 2014, was canceled due to a winter storm warning and temporary, weather-related closure of Washington, DC-area offices of the Federal Government. The meeting has been rescheduled for May 1-2, 2014, with a revised agenda. As originally planned, the Committee will meet with its Technical Advisors to discuss matters relating to ICCAT, including the 2013 Commission meeting results; research and management activities; global and domestic initiatives related to ICCAT; the Atlantic Tunas Convention Act-required report on any identification of countries that are diminishing the effectiveness of ICCAT; the results of meetings of the Committee's Species Working Groups; and other matters relating to the international management of ICCAT species. There will also be a closed session consultation to discuss the amendment of ICCAT's Convention.

DATES: The open sessions of the Committee meeting will be held on May 1, 2014, 8:45 a.m. to 12:45 p.m., and 3:30 p.m. to 4 p.m.; and May 2, 2014, 9 a.m. to 12:45 p.m. Closed sessions will be held on May 1, 2014, 1:30 p.m. to 3 p.m., and 4 p.m. to 6:30 p.m.; and on May 2, 2014, 8 a.m. to 9 a.m.

ADDRESSES: The meeting will be held at the Hilton Hotel, 1750 Rockville Pike, Rockville, MD 20852. The phone number is (301) 468-1100.

FOR FURTHER INFORMATION CONTACT: Rachel O'Malley at (301) 427-8373.

SUPPLEMENTARY INFORMATION: The Advisory Committee to the U.S. Section to ICCAT will meet in open session to receive and discuss information on the 2013 ICCAT meeting results and U.S. implementation of ICCAT decisions; NMFS research and monitoring activities; global and domestic initiatives related to ICCAT; the Atlantic Tunas Convention Act-required consultation on any identification of countries that are diminishing the effectiveness of ICCAT; the results of the meetings of the Committee's Species Working Groups; and other matters relating to the international management of ICCAT species. The public will have access to the open sessions of the meeting, but there will be no opportunity for public comment. A copy of the agenda is available from the Committee's Executive Secretary upon request (see FOR FURTHER INFORMTION CONTACT above).

The Committee will meet in its Species Working Groups for part of the afternoon of May 1, 2014, and for one hour on the morning of May 2, 2014. These sessions are not open to the public, but the results of the species working group discussions will be reported to the full Advisory Committee during the Committee's open session on May 2, 2014. In addition, the Committee will meet in closed session on the afternoon of May 1, 2014, to discuss sensitive information relating to upcoming international negotiations on the amendment of the ICCAT Convention.

Special Accommodations

The meeting location is physically accessible to people with disabilities. Requests for sign language interpretation or other auxiliary aids should be directed to Rachel O'Malley at (301) 427-8373 at least 5 days prior to the meeting date.

Dated: April 16, 2014.
Jean-Pierre Plé,
Acting Director, Office of International Affairs, National Marine Fisheries Service.

[FR Doc. 2014-09029 Filed 4-18-14; 8:45 am]

BILLING CODE 3510-22-P